DEPARTMENT OF AGRICULTURE

Agricultural Marketing Service

7 CFR Part 945

[Docket No. FV01-945-610 REVIEW]

Idaho-Eastern Oregon Potato Marketing Order; Section 610 Review

AGENCY: Agricultural Marketing Service, USDA.

ACTION: Confirmation of regulations.

SUMMARY: This action summarizes the results of an Agricultural Marketing Service (AMS) review of Marketing Order 945, which regulates the handling of Irish potatoes grown in certain designated counties in Idaho and Malheur County, Oregon, under the criteria contained in section 610 of the Regulatory Flexibility Act (RFA). Based upon its review, AMS has determined that the marketing order should be continued without change.

DATES: Effective: May 28, 2002.

ADDRESSES: Interested persons may obtain a copy of the review. Requests for copies should be sent to the Docket Clerk, Fruit and Vegetable Programs, AMS, USDA, Room 2525-S, PO Box 96456, Washington, DC 20090-6456; Fax: (202) 720-8938; or E-mail: moab.docketclerk@usda.gov.

FOR FURTHER INFORMATION CONTACT: Gary Olson, Regional Manager, Northwest Marketing Field Office, Marketing Order Administration Branch, Fruit and Vegetable Programs, AMS, USDA, 1220 SW Third Avenue, Suite 385, Portland, Oregon 97204; telephone: (503) 326-2724; Fax: (503) 326-7440; E-mail: GaryD.Olson@usda.gov; or George Kelhart, Technical Advisor, Marketing Order Administration Branch, Fruit and Vegetable Programs, AMS, USDA, room 2525-S, PO Box 96456, Washington, DC 20090-6456; telephone: (202) 720-2491; Fax: (202) 720-8938; E-mail: George.Kelhart@usda.gov.

SUPPLEMENTARY INFORMATION: Marketing Order No. 945, as amended (7 CFR part 945), regulates the handling of Irish potatoes grown in certain designated counties in Idaho and Malheur County, Oregon. The marketing order is effective under the Agricultural Marketing Agreement Act of 1937 (Act), as amended (7 U.S.C. 601-674).

Marketing Order 945, originally established in 1941, authorizes grade, size, quality, pack, and container regulations, as well as inspection. Under section 8e of the Act, the grade, size, quality, and maturity regulations are also applied to imported potatoes. The marketing order establishes the Idaho-Eastern Oregon Potato Committee (Committee), consisting of five producers and three handlers and their respective alternates. Members serve two-year terms and are nominated by the Idaho-Eastern Oregon potato industry, currently consisting of approximately 1,200 producers and 63 handlers.

AMS published in the Federal Register (63 FR 8014; February 18, 1999), its plan to review certain regulations, including Marketing Order No. 945, under criteria contained in section 610 of the Regulatory Flexibility Act (RFA; 5 U.S.C. 601-612). An updated plan was published in the Federal Register on January 4, 2002 (67 FR 525). AMS published a notice of review and request for written comments on the Idaho-Eastern Oregon potato marketing order in the May 31, 2001, issue of the Federal Register (66 FR 24095). During the comment period, one written comment in support of the marketing order was received. This comment, received from the Committee, supported continuation of the marketing order.

The AMS review was undertaken to determine whether the Idaho-Eastern Oregon potato marketing order should be continued without change, amended, or rescinded to minimize the impacts on small entities. In conducting this review, AMS considered the following factors: (1) The continued need for the marketing order; (2) the nature of complaints or comments received from the public concerning the marketing order; (3) the complexity of the marketing order; (4) the extent to which the marketing order overlaps, duplicates, or conflicts with other Federal rules, and, to the extent feasible, with State and local governmental rules; and (5) the length of time since the marketing order has been evaluated or the degree to which technology, economic conditions, or other factors have changed in the area affected by the marketing order.

In its written comment, the Committee stated that the marketing order has contributed significantly to the name recognition the “Idaho Potato” currently enjoys nationally and internationally. The Committee believes that, since its inception, the marketing order has been a significant factor in the successful marketing of Idaho-Eastern Oregon potatoes and that it remains an important and viable tool for area producers.

Based on its review, AMS has determined that the marketing order should be continued without change. The marketing order was established to help the Idaho-Eastern Oregon potato industry work with AMS to solve marketing problems. The marketing order regulations on grade, size, quality, maturity, pack, container, and inspection requirements continue to be beneficial to producers, handlers, and consumers. Potatoes produced within this region are widely recognized by consumers as having quality characteristics.

Neither AMS nor the Committee have received any complaints regarding Marketing Order 945 or the regulations issued thereunder. The marketing order is not unduly complex. Except for 8e regulations, AMS has not identified any relevant Federal rules, or State and local regulations that duplicate, overlap, or conflict with the Idaho-Eastern Oregon potato marketing order. In its comment, the Committee states that the order is not complex, but adds that it is available to assist both regulated handlers and inspection personnel if there are any questions or problems regarding interpretation of the handling regulations issued under the marketing order.

AMS provides federal oversight of the order and, along with the Committee, monitors marketing operations on a continuing basis. AMS works with the Committee to be responsive to an ever-changing market. Changes in regulations are implemented to reflect current industry operating practices, and to solve marketing problems as they occur. The goal of these evaluations is to assure that the marketing order and the regulations implemented under it fit the needs of the industry and are consistent with the Act. The Committee commented that it meets at least twice annually to discuss the marketing order and the various regulations issued thereunder, and to determine if, or what, changes may be necessary to recommend to AMS to reflect current industry practices. As a result, regulatory changes have been made by AMS numerous times over the years to address industry operation changes and to improve program administration.

AMS will continue to work with the Idaho-Eastern Oregon potato industry in maintaining an effective marketing order program.

Dated: May 20, 2002.
Kenneth C. Clayton,
Acting Administrator, Agricultural Marketing Service.

[FR Doc. 02-13124 Filed 5-24-02; 8:45 am]

BILLING CODE 3410-02-P